DEPARTMENT OF ENERGY

Federal Energy Regulatory Commission

[Docket No. CP24-80-000]

Mississippi Hub, LLC; Notice of Schedule for the Preparation of an Environmental Assessment for the MS Hub Capacity Expansion Project

On March 5, 2024, Mississippi Hub, LLC (MS Hub) filed an application in Docket No. CP24-80-000 requesting a Certificate of Public Convenience and Necessity pursuant to section 7(c) of the Natural Gas Act to construct and operate certain facilities related to natural gas storage and compression. The proposed project is known as the MS Hub Capacity Expansion Project (Project) and would add up to 0.7 billion cubic feet (Bcf) per day of injection capacity and up to 1.0 Bcf per day of delivery capacity to MS Hub's existing MS Hub Storage Facility infrastructure, as well as perform related modifications within Simpson, Covington, and Jefferson Davis Counties, Mississippi.

On March 18, 2024, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA August 16, 2024

90-day Federal Authorization Decision Deadline ² November 14, 2024

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Within Simpson County, MS Hub would construct: (a) three new gas storage caverns and expand the capacity of two existing gas storage caverns, thereby increasing the certificated working gas capacity at its MS Hub Storage Facility by approximately 33.9 Bcf; (b) approximately 14,000 horsepower (hp) of electric motor-driven compression and 16,500 hp of gas-fired compression and ancillary equipment at its existing Gas Handling Facility; (c) additional solution mining equipment at its existing Leaching Facility; (d) a filter separator and skid at the existing Southern Natural Gas (“SONAT”) Meter Station site; and (e) four raw water wells and three saltwater disposal wells. Within Covington County, MS Hub would construct: (a) meter skids, flow control skids, and filter separators on the existing Transcontinental Pipeline (“Transco”) and Southeast Supply Header (“SESH”) Meter Station sites; and (b) one booster compressor station (“MS Hub Booster Station”), including gas-fired compressor units totaling 40,458 hp, approximately 2 miles northwest of the existing Transco Meter Station. Within Jefferson Davis County, MS Hub would construct two saltwater disposal wells.

Background

On April 10, 2024, the Commission issued a Notice of Scoping Period Requesting Comments on Environmental Issues for the Proposed MS Hub Capacity Expansion Project (Notice of Scoping). The Notice of Scoping was sent to affected landowners; federal, state, and local government agencies; elected officials; environmental and public interest groups; Native American tribes; other interested parties; and local libraries and newspapers. In response to the Notice of Scoping, the Commission received comments from Mississippi Department of Wildlife, Fisheries, and Parks; Mississippi Department of Environmental Quality; Southern Natural Gas Company, L.L.C.; Mississippi Department of Archives and History; and Mississippi Hub, LLC. The primary issues raised by the commenters are the need to perform a Mississippi Natural Heritage Program review, and corrections to the Project description within the Notice of Scoping. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP24-80), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: May 17, 2024.
Debbie-Anne A. Reese,
Acting Secretary.

[FR Doc. 2024-11377 Filed 5-22-24; 8:45 am]

BILLING CODE 6717-01-P